DEPARTMENT OF ENERGY

Federal Energy Regulatory Commission

[Docket No. ER03-15-002, et al.]

Consumers Energy Company, et al.; Electric Rate and Corporate Filings

February 14, 2003.

The following filings have been made with the Commission. The filings are listed in ascending order within each docket classification.

1. Consumers Energy Company

[Docket No. ER03-15-002]

Take notice that on February 12, 2003, Consumers Energy Company (Consumers) tendered for filing changes to its First Revised Rate Schedule No. 116, pursuant to the Commission's February 6, 2003 Order in this docket. (Consumers notes that substantially the same filing was also made earlier and docketed in Docket No. ER03-388-000.) The revised pages being filed are:

Second Revised Sheet Nos. 11 and 23

Consumers states that copies of the filing were served upon those on the official service lists in this docket and in Docket No. ER03-388-000.

Comment Date: March 5, 2003.

2. American Electric Power Company

[Docket No. ER03-95-002]

Take notice that on February 12, 2003, American Electric Power Service Corporation, on behalf of the operating companies of the American Electric Power System (collectively AEP) filed amendments to service agreements under AEP's Open Access Transmission Tariff (OATT) for long-term firm point-to-point transmission service to Duke Energy Trading and Marketing, Inc. The filing was made in compliance with the Commission's Order Conditionally Accepting Filing and Denying Waiver of Notice Requirements issued in Docket No. ER03-95-001 on December 27, 2002.

Comment Date: March 5, 2003.

3. Boston Edison Company

[Docket No. ER03-529-000]

Take notice that on February 11, 2003, Boston Edison Company (Boston Edison) tendered for filing an executed Related Facilities Agreement between Boston Edison and Entergy Nuclear Generation Company (Entergy). Boston Edison requests an effective date of the Agreement of April 11, 2003.

Boston Edison states that it has served a copy of the filing on Entergy and the Massachusetts Department of Telecommunications and Energy.

Comment Date: March 4, 2003.

4. Texas-New Mexico Power Company

[Docket No. ES03-25-000]

Take notice that on February 11, 2003, Texas-New Mexico Power Company submitted an application pursuant to section 204 of the Federal Power Act seeking authorization to issue long-term, unsecured debt in an amount not to exceed $150 million.

Comment Date: March 7, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-4562 Filed 2-25-03; 8:45 am]

BILLING CODE 6717-01-P